DEPARTMENT OF TRANSPORTATION

Federal Aviation Administration

Public Notice for Waiver of Aeronautical Land-Use Assurance LaPorte Municipal Airport, LaPorte, IN

AGENCY: Federal Aviation Administration, DOT.

ACTION: Notice of intent of waiver with respect to land.

SUMMARY: The Federal Aviation Administration (FAA) is considering a proposal to change a portion of the airport from aeronautical use to non-aeronautical use and to authorize the lease of the airport property. The area is a two-acre parcel of vacant land located in the land triangle east of Runway 2/20 and south of Runway 14/32, The land was obligated under FAA Project No. 3-18+0047-003-1992. There are not impacts to the airport by allowing the airport to lease the property. The land is not needed for aeronautical use and a new fire station will be constructed on the land that will provide firefighting capability to the airport and surrounding community. Approval does not constitute a commitment by the FAA to financially assist in the disposal of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code. This notice is required to be published in the Federal Register 30 days before modifying the land-use assurance that requires the property to be used for an aeronautical purpose.

DATES: Comments must be received on or before September 6, 2005.

FOR FURTHER INFORMATION CONTACT: Gregory N. Sweeny, Airports Engineer, Chicago Airports District Office, 2300 East Devon Avenue, Des Plaines, Illinois 60018. Telephone Number (847) 294-7526/FAX Number (847) 294-7046. Documents reflecting this FAA action may be reviewed at this same location or at LaPorte Municipal Airport, LaPorte, Indiana.

SUPPLEMENTARY INFORMATION: Following is a legal description of the property located in the city of LaPorte, LaPorte County, Indiana, and described as follows: A parcel of land situated in the Northwest Quarter of Section 14, Township 36 North, Range 3 West, Scipio Township, LaPorte County, Indiana, being more particularly described as follows: Commencing at a cast iron monument marking the Center of Section 14, Township 36 North, Range 3 West, Scipio Township, LaPorte County, Indiana, for the point of beginning: Thence: S 87°56′32″ W, along the South line of the Northwest Quarter of said Section 14, a distance of 569.93′, for the point of beginning; Thence: S 87°56′32″ W, continuing along said South line, a distance of 310′; Thence N 02°03′29″ W, a distance of 287.81′; Thence N 87°56′32″ E, a distance of 247.51′; Thence: S45°14′26″ E, a distance of 91.31′; Thence: S 02°03′26″ E, a distance of 221.22′ to the point of beginning. Containing 2.000 acres, subject to all legal easements.

Issued in Des Plaines, Illinois on July 20, 2005.
Larry H. Ladendorf,
Acting Manager, Chicago Airports District Office, FAA, Great Lakes Region.

[FR Doc. 05-15401 Filed 8-3-05; 8:45 am]

BILLING CODE 4910-13-M